DEPARTMENT OF DEFENSE

Department of the Navy

Meeting of the Ocean Research and Resources Advisory Panel

AGENCY: Department of the Navy, DOD.

ACTION: Notice of open meeting.

SUMMARY: The Ocean Research and Resources Advisory Panel (ORRAP) will hold its third regularly scheduled meeting of the year. The meeting will be open to the public.

DATES: The meeting will be held on Tuesday, August 11, 2009 from 9 a.m. to 5:30 p.m. and Wednesday, August 12, 2009 from 9 a.m. to 3 p.m. Members of the public should submit their comments one week in advance of the meeting to the meeting Point of Contact.

ADDRESSES: The meeting will be held in the offices of the Consortium of Ocean Leadership, 1201 New York Avenue, NW., 4th Floor, Washington, DC.

FOR FURTHER INFORMATION CONTACT: Dr. Charles L. Vincent, Office of Naval Research, 875 North Randolph Street, Suite 1425, Arlington, VA 22203-1995, telephone (703) 696-4118.

SUPPLEMENTARY INFORMATION: This notice of open meeting is provided in accordance with the Federal Advisory Committee Act (5 U.S.C. App. 2). The meeting will include discussions on coastal hazards, fishery management initiatives, ocean science policy, ocean observations, ocean mapping, education, and other current issues in the ocean science and resource management communities.

Dated: July 24, 2009.
A.M. Vallandingham,
Lieutenant Commander, Judge Advocate General's Corps, U.S. Navy, Federal Register Liaison Officer.

[FR Doc. E9-18382 Filed 7-30-09; 8:45 am]

BILLING CODE 3810-FF-P